DEPARTMENT OF ENERGY

Federal Energy Regulatory Commission

[Docket No. RP02-449-002]

Eastern Shore Natural Gas Company; Notice of Compliance Filing

August 6, 2003.

Take notice that on July 25, 2003, Eastern Shore Natural Gas Company (Eastern Shore) tendered for filing as part of its FERC Gas Tariff, Second Revised Volume No. 1, the tariff sheets listed on Appendix A to the filing, with an effective date of October 1, 2002.

Eastern Shore states that on October 15, 2002 it filed revised tariff sheets to be effective October 1, 2002 in order to comply with FERC Order No. 587-O to implement Version 1.5 of the North American Energy Standards Board (NAESB) standards. Eastern Shore explains that, based upon the Commission's review of Eastern Shore's proposed tariff revisions, the Commission found that Eastern Shore's revised tariff sheets generally complied with Order No. 587-O. By Letter Order issued July 17, 2003, however, the Commission directed Eastern Shore to file certain revised tariff sheets within fifteen (15) days of the letter order.

Eastern Shore states the revised tariff sheets, as filed herein, contain the required revisions necessary to comply with the Commission's July 17, 2003 letter order.

Eastern Shore states that copies of its filing have been mailed to its customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 11, 2003.

Magalie R. Salas,
Secretary.

[FR Doc. 03-20620 Filed 8-12-03; 8:45 am]

BILLING CODE 6717-01-P